DEPARTMENT OF AGRICULTURE

Animal and Plant Health Inspection Service

[Docket No. APHIS-2010-0027]

Notice of Decision To Issue Permits for the Importation of Wall Rocket Leaves From the United Kingdom Into the Continental United States

AGENCY: Animal and Plant Health Inspection Service, USDA.

ACTION: Notice.

SUMMARY: We are advising the public of our decision to begin issuing permits for the importation into the continental United States of wall rocket leaves from the United Kingdom. Based on the findings of a pest risk analysis, which we made available to the public for review and comment through a previous notice, we believe that the application of one or more designated phytosanitary measures will be sufficient to mitigate the risks of introducing or disseminating plant pests or noxious weeds via the importation of wall rocket leaves from the United Kingdom.

DATES: Effective Date: November 23, 2010.

FOR FURTHER INFORMATION CONTACT: Ms. Claudia Ferguson, Regulatory Policy Specialist, Regulatory Coordination and Compliance, PPQ, APHIS, 4700 River Road Unit 133, Riverdale, MD 20737-1236; (301) 734-0627.

SUPPLEMENTARY INFORMATION:

Background

Under the regulations in “Subpart-Fruits and Vegetables” (7 CFR 319.56-1 through 319.56-50, referred to below as the regulations), the Animal and Plant Health Inspection Service (APHIS) of the U.S. Department of Agriculture prohibits or restricts the importation of fruits and vegetables into the United States from certain parts of the world to prevent plant pests from being introduced into and spread within the United States.

Section 319.56-4 of the regulations contains a performance-based process for approving the importation of commodities that, based on the findings of a pest risk analysis (PRA), can be safely imported subject to one or more of the designated phytosanitary measures listed in paragraph (b) of that section. Under that process, APHIS publishes a notice in the Federal Register announcing the availability of the PRA that evaluates the risks associated with the importation of a particular fruit or vegetable. Following the close of the 60-day comment period, APHIS may begin issuing permits for importation of the fruit or vegetable subject to the identified designated measures if: (1) No comments were received on the PRA; (2) the comments on the PRA revealed that no changes to the PRA were necessary; or (3) changes to the PRA were made in response to public comments, but the changes did not affect the overall conclusions of the analysis and the Administrator's determination of risk.

In accordance with that process, we published a notice ¹ in the Federal Register on July 8, 2010 (75 FR 39203-39204, Docket No. APHIS-2010-0027), in which we announced the availability, for review and comment, of a PRA that evaluates the risks associated with the importation into the continental United States of wall rocket (Diplotaxis tenuifolia (L)) leaves from the United Kingdom. We solicited comments on the notice for 60 days ending on September 7, 2010. We received one comment by that date, from a State department of agriculture.

¹ To view the notice, the PRA, and the comment we received, go to http://www.regulations.gov/fdmspublic/component/main?main=DocketDetail&d=APHIS-2010-0027.

The PRA concluded that there was a low likelihood of the leafminer pests associated with wall rocket leaves from the United Kingdom escaping detection at the port of entry. The commenter stated that the likelihood of eggs or early instars with no or difficult-to-detect mines being present or of interior plant parts being infested would allow some immature pests to escape detection.

We acknowledge that eggs or very early instars may be present with tunnels too small to be seen. However, after wall rocket leaves have been harvested and enter the commercial consumption pathway, they are generally refrigerated, so it would be unlikely that the eggs or early instar larvae could complete development. Thus, there is a low risk associated with the life stages of these pests that might escape detection.

The PRA also concluded that there is a low likelihood of the pests associated with wall rocket leaves from the United Kingdom coming into contact with host material suitable for reproduction. The commenter stated that, because of the highly polyphagous nature of leafminers, if egg- or larva-infested commodity arrives in the United States, there is a high probability of adults emerging and coming into contact with suitable hosts in favorable environments, such as the one in the commenter's State.

The majority of this commodity will be consumed and any plant material not consumed will be disposed of in environments not suitable for pest escape. In addition, the cut commodity rapidly wilts and desiccates, preventing the complete development of the insect. Taking into consideration the fact that both pests are poor flyers with relatively short lifespans, we have concluded that the low rating for this risk element is appropriate. As such, we have determined that no changes to the PRA are necessary based on the comment.

Therefore, in accordance with the regulations in § 319.56-4(c)(2)(ii), we are announcing our decision to begin issuing permits for the importation into the continental United States of wall rocket leaves from the United Kingdom subject to the following phytosanitary measures:

• Each consignment of wall rocket leaves must be accompanied by a phytosanitary certificate issued by the Department of Environment Food and Rural Affairs with the following additional declaration: “Wall rocket leaves in this consignment were inspected and found free from Chromatomyia horticola and Liriomyza strigata.”

• The wall rocket leaves must be imported as commercial consignments only.

These conditions will be listed in the Fruits and Vegetables Import Requirements database (available at http://www.aphis.usda.gov/favir). In addition to those specific measures, wall rocket leaves from the United Kingdom will be subject to the general requirements listed in § 319.56-3 that are applicable to the importation of all fruits and vegetables.

Authority: 7 U.S.C. 450, 7701-7772, and 7781-7786; 21 U.S.C. 136 and 136a; 7 CFR 2.22, 2.80, and 371.3.

Done in Washington, DC, this 17th day of November 2010.
Kevin Shea,
Acting Administrator, Animal and Plant Health Inspection Service.

[FR Doc. 2010-29500 Filed 11-22-10; 8:45 am]

BILLING CODE 3410-34-P